DEPARTMENT OF DEFENSE

Department of the Air Force

[Docket ID: USAF-2009-0027]

Privacy Act of 1974; System of Records

AGENCY: Department of the Air Force, DoD.

ACTION: Notice To Delete a System of Records.

SUMMARY: The Department of Air Force proposes to delete a system of records notice from its inventory of record systems subject to the Privacy Act of 1974 (5 U.S.C. 552a), as amended.

DATES: This proposed action will be effective without further notice on May 18, 2009 unless comments are received which result in a contrary determination.

ADDRESSES: Send comments to the Air Force Privacy Act Officer, Office of Warfighting Integration and Chief Information Officer, SAF/XCPPI, 1800 Air Force Pentagon, Suite 220, Washington, DC 20330-1800.

FOR FURTHER INFORMATION CONTACT: Mr. Ben Swilley at (703) 696-6648.

SUPPLEMENTARY INFORMATION: The Department of the Air Force systems of records notices subject to the Privacy Act of 1974, (5 U.S.C. 552a), as amended, have been published in the Federal Register and are available from the address above.

The Department of the Air Force proposes to delete a system of records notice from its inventory of record systems subject to the Privacy Act of 1974 (5 U.S.C. 552a), as amended. The proposed deletion is not within the purview of subsection (r) of the Privacy Act of 1974, (5 U.S.C. 552a), as amended, which requires the submission of a new or altered system report.

Dated: April 14, 2009.
Morgan E. Frazier,
Alternate OSD Federal Register Liaison Officer, Department of Defense.

Deletion of System Notice:

F036 AFPC A

System Name:

Deceased Service Member's Dependent File (June 11, 1997, 62 FR 31793).

Reason:

This is a duplicate system that is now merged with F036 AF PC R, Casualty Files (June 11, 1997, 62 FR 31793). There should be only one system for Casualty Files records.

[FR Doc. E9-8842 Filed 4-16-09; 8:45 am]

BILLING CODE 5001-06-P